ENVIRONMENTAL PROTECTION AGENCY

[FRL-7433-8]

EPA Science Advisory Board; Notification of Public Advisory Committee Meetings

1. Summary

(a) Action—Pursuant to the Federal Advisory Committee Act, Public Law 92-463, notice is hereby given that the U.S. Environmental Protection Agency (EPA) Science Advisory Board (SAB) has established the Science and Technology Review Panel (S&TRP) to review EPA's Science and Technology Budget Request for 2004. This notice solicits comments from the public on the panel that has been established. Also being announced is a series of meetings in January, February, and March 2003 during which the Panel will conduct the review (dates and times are noted below and all times noted are Eastern Time). All meetings will be open to the public, however, seating is limited and available on a first come basis. Important Notice: Documents that are the subject of SAB reviews are normally available from the originating EPA office and are not available from the SAB Office—information concerning availability of documents from the relevant Program Office is included below.

(b) Background—The Office of Research and Development (ORD) is viewed as the lead science office at EPA, however, only about half of the science conducted by the Agency is performed by ORD. Each of the Program Offices and Regions conduct scientific activities which range from risk assessments to laboratory analyses. To ensure that the science conducted at EPA is well planned, organized and coordinated, EPA has, since 1999, requested that the SAB review and comment on the entire EPA Science and Technology budget. Prior to that time the SAB's Research Strategies Advisory Committee had conducted an annual review of the Office of Research and Development's R&D budget request.

The EPA SAB's mission is to provide independent advice on the scientific and technical information used to support the Agency's actions to implement its own mission of protecting human health and safeguarding the natural environment. SAB advice is given on a wide ranging set of programs and Agency science and technical products (e.g., science programs, guidelines, documents, methodologies, protocols, tests, criteria documents, standards for protection of human health and the environment). The S&T budget review is a small, and focused, part of the SAB's activities that result in advice to the EPA Administrator on the Agency's scientific and technical programs. The review gives the SAB an opportunity to look at an integrated view of these programs.

(c) The Charge. The Agency Charge to the SAB asks for advice on its Science and Technology Budget Request for FY 2004. The specific Charge to the SAB is posted on the SAB Web site at www.epa.gov/sab/.

(d) Approach to Conducting the Review—The Science Advisory Board has determined that the Panel for conducting this review should be composed of members of the SAB's Research Strategies Advisory Committee (RSAC), supplemented by a small number of members from other SAB standing committees. Collectively, these members have broad expertise in the environmental sciences and their expertise is appropriate to address EPA's charge. Further, these SAB members have been appointed by the Administrator, to provide advice on broad issues of research planning, budgeting, and management as well as a variety of specific scientific and technical issues.

(e) Public Comments Solicited—By this notice, the public is invited to comment on the panel members who have been identified to serve on this review panel. Biographical sketches of the panel members who have been identified for this review panel can be found on the SAB Web site at http://www.epa.gov/SAB/whatsnew.htm in early January, 2003. The public is invited to provide the EPA Science Advisory Board with information or analyses pertinent to the service of any of these individuals on the review. Information, preferably in electronic form, must be received no later than January 20, 2003. Information sent by mail should be addressed to Mr. Thomas O. Miller, Designated Federal Officer, SAB Science and Technology Review Panel (see contact information below). The final roster of the participating SAB members will be placed on the SAB Web site no later than January 21, 2003.

2. Meeting Information

In January, the S&TRP will prepare for their review of the EPA Science and Technology (S&T) component of the FY 2004 President's Budget request by holding two telephone conference call meetings to receive background briefings from EPA on programs that are covered by the S&T budget. At a face-to-face meeting in February, the Panel will review the EPA Fiscal Year 2004 S&T Budget Request and prepare a draft report on the Panel's findings and recommendations. A contingency telephone conference meeting is tentatively scheduled for March 21, 2003 if necessary for gaining closure on the review.

The telephone conference meetings will coordinated from the EPA Science Advisory Board Conference Room (room 6013), USEPA, Ariel Rios Building North, 1200 Pennsylvania Avenue, NW., Washington, DC 20004. The location of the face-to-face meeting will be announced in a subsequent Federal Register notice. The meetings will convene on the dates and at the times specified below.

(a) Science and Technology Review Panel (S&TRP)—January 23, 2003 by teleconference from 12 p.m. to 3 p.m. Eastern Time. The EPA charge to the SAB presumes Panel knowledge of a substantial amount of information about EPA's science planning documents, strategic objectives, priorities, research planning processes, research types, and peer review approaches. The purpose of this public teleconference meeting is to: (i) Discuss the charge and background materials provided to the Panel; (ii) to receive presentations from EPA representatives on the background materials; (iii) to receive public comments if any are offered; (iv) to ask questions on the charge and the background materials; (v) to make and discuss Panel assignments for the review; (vi) to clarify specific points of interest raised by the Panelists in preparation for the face-to-face meeting to be held on February 24-25, 2003; and (vii) to identify additional information or other Panel needs. See above for information on the location of this meeting. Persons wishing to participate in the call should call Ms. Zisa Lubarov-Walton for information on call in procedures. See below for availability of review materials and contact information.

(b) Science and Technology Review Panel (S&TRP)—January 24, 2003, by teleconference from 12 p.m. to 3 p.m. Eastern Time. The purpose of this public teleconference meeting is to conclude Panel preparations for its review of the EPA S&T Budget Request for Fiscal Year 2004. These background briefings are to be initiated during a telephone conference meeting on January 23, 2003 (see item 2 a) above). See above for information on the location of this meeting. Persons wishing to participate in the call should call Ms. Zisa Lubarov-Walton for information on call in procedures. See below for availability of review materials and contact information.

(c) Science and Technology Review Panel (S&TRP)—February 24-25, 2003 Face-to-Face Meeting. The Science and Technology Review Panel of the EPA Science Advisory Board will meet from February 24 to February 25, 2003. The meeting will be held at a location to be announced in a subsequent Federal Register notice. The meeting will begin at 9:30 a.m on February 24, 2003 and end no later than 4 p.m. on February 25, 2003. All times noted are Eastern Time. The meeting is open to the public; however, seating is limited and available on a first come basis. The purpose of this public meeting is to conduct public deliberations on the EPA FY 2004 S&T component of the President's Budget request. Documentation on the budget which is to be delivered to the Panel during the first week of February, 2003. Persons wishing to participate in the call should call Ms. Zisa Lubarov-Walton for information on call in procedures. See below for availability of review materials and contact information.

(d) Science and Technology Review Panel (S&TRP)—March 21, 2003, by teleconference from 12 p.m. to 3 p.m. Eastern Time. The purpose of this public teleconference meeting is to conclude panel deliberations and to reach closure on its report on the S&T budget. This meeting will be held only if needed to complete the Panel's work. See above for information on the location of this meeting. Persons wishing to participate in the call should call Ms. Zisa Lubarov-Walton for information on call in procedures. See below for availability of review materials and contact information.

3. For Further Information

Any member of the public wishing further information concerning these meetings, or who wishes to submit brief oral comments, must contact Mr. Thomas O. Miller, Designated Federal Officer, Science and Technology Review Panel, USEPA Science Advisory Board (1400A), Suite 6450DD, 1200 Pennsylvania Avenue, NW., Washington, DC 20460; telephone/voice mail at (202) 564-4558; fax at (202) 501-0582; or via e-mail at miller.tom@epa.gov. Requests for oral comments must be in writing (e-mail, fax or mail) and received by Mr. Miller no later than noon Eastern Time on the dates that follow: (a) January 17, 2003 for the first two telephone conferences and (b) February 19, 2003 for the face-to-face meeting, and (c) March 14, 2003 for the contingency telephone conference meeting. See below for time limitations on public comments.

Members of the public desiring additional information about the meeting locations must contact Ms. Zisa Lubarov-Walton, EPA Science Advisory Board (1400A), Suite 6450FF, U.S. EPA, 1200 Pennsylvania Avenue, NW., Washington, DC 20460; telephone/voice mail at (202) 564-4533; fax at (202) 501-0582; or via e-mail at lubarov-walton.zisa@epa.gov.

A copy of the draft agenda, and other information for the review for each meeting, will be posted on the SAB Web site (www.epa.gov/SAB/whatsnew.htm) approximately 10 days before that meeting.

(a) Availability of Review Materials—Materials that are the subject of this review are available from Ms. Laura Miner-Nordstrom, Office of the Chief Financial Officer or from Mr. Kevin Teichman, Office of Research and Development. Ms. Laura Miner-Nordstrom can be reached on (202) 564-1601 or by e-mail at Miner-Nordstrom.Laura@epa.gov and Mr. Teichman can be reached on (202) 564-6705 or via e-mail on teichman.kevin@epa.gov.

(b) Meeting Access—Individuals requiring special accommodation at this meeting, including wheelchair access to the conference room, should contact Mr. Miller at least five business days prior to the meeting so that appropriate arrangements can be made.

(c) General Information—Additional information concerning the Science Advisory Board, its structure, function, and composition, may be found on the SAB Web site (http://www.epa.gov/sab) and in the Science Advisory Board FY2001 Annual Staff Report which is available from the SAB Publications Staff at (202) 564-4533 or via fax at (202) 501-0256.

4. Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the appropriate DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Dated: December 24, 2002.
Robert Flaak,
Acting Director, EPA Science Advisory Board Staff Office.

[FR Doc. 02-32987 Filed 12-30-02; 8:45 am]

BILLING CODE 6560-50-P